DEPARTMENT OF COMMERCE

International Trade Administration

Applications for Duty-Free Entry of Scientific Instruments

Pursuant to Section 6(c) of the Educational, Scientific and Cultural Materials Importation Act of 1966 (Pub. L. 89-651, as amended by Pub. L. 106-36; 80 Stat. 897; 15 CFR part 301), we invite comments on the question of whether instruments of equivalent scientific value, for the purposes for which the instruments shown below are intended to be used, are being manufactured in the United States.

Comments must comply with 15 CFR 301.5(a)(3) and (4) of the regulations and be postmarked on or before October 14, 2008. Address written comments to Statutory Import Programs Staff, Room 2104, U.S. Department of Commerce, Washington, D.C. 20230. Applications may be examined between 8:30 A.M. and 5:00 P.M. at the U.S. Department of Commerce in Room 2104.

Docket Number: 08-047. Applicant: Stanford University, Department of Structural Biology, D100 Fairchild Building, 299 Campus Drive West, Stanford, CA 94305-5126. Instrument: Electron Microscope, Model Tecnai G2 F20 TWIN. Manufacturer: FEI Company, the Netherlands. Intended Use: The instrument is intended to be used to study purified proteins from yeast Saccharomyces cerevisiae, also known as baker's yeast, which are involved in transcription. Researchers plan to employ single particle analysis to study the protein complexes involved in transcription, the synthesis on RNA from a DNA template. Application accepted by Commissioner of Customs and Border Protection: August 25, 2008.

Dated: September 16, 2008.
Faye Robinson,
Director, Statutory Import Programs Staff.

[FR Doc. E8-22107 Filed 9-19-08; 8:45 am]

BILLING CODE 3510-DS-S